DEPARTMENT OF TRANSPORTATION

Office of the Secretary

Aviation Proceedings, Agreements Filed the Week Ending September 2, 2005

The following Agreements were filed with the Department of Transportation under the sections 412 and 414 of the Federal Aviation Act, as amended (49 U.S.C. 1382 and 1384) and procedures governing proceedings to enforce these provisions. Answers may be filed within 21 days after the filing of the application.

Docket Number: OST-2005-22348.

Date Filed: September 1, 2005.

Parties: Members of the International Air Transport Association.

Subject: Composite Expedited Resolution 201, Intended effective date: 15 September 2005.

Docket Number: OST-2005-22349.

Date Filed: September 1, 2005.

Parties: Members of the International Air Transport Association.

Subject: Mail Vote 455-Resolution 010v, Special Passenger Amending Resolution between Japan and Thailand, TC3 Japan Korea, South-East Asia. Intended effective date: 1 November 2005.

Docket Number: OST-2005-22350.

Date Filed: September 1, 2005.

Parties: Members of the International Air Transport Association.

Subject: Composite Passenger Tariff Coordinating Conference Montreal, 18-21 July 2005, Composite Resolutions 002bc, 005i, 012c, 024d, 024e, 024k, 049d, 100, 201, 210, Minutes: Composite Meeting of Passenger Tariff, Coordinating Conferences (memo 1271), Montreal, 18-21 July 2005, Technical Correction: Composite Passenger Tariff Coordinating Conference, Montreal, 18-21 July 2005, Composite Resolutions 002bc, 005i, 012c, 024d, 024e, 024k, 049d, 100, 201, 210, Intended effective date: 1 April 2006.

Docket Number: OST-2005-22351.

Date Filed: September 1, 2005.

Parties: Members of the International Air Transport Association.

Subject: Composite Resolution 300 (Memo 1267), Composite Passenger Tariff Coordinating Conference, Montreal, 18-21 July 2005, Minutes: Composite Meeting of Passenger Tariff, Coordinating Conferences (memo 1271), Montreal, 18-21 July 2005, Intended effective date: 1 April 2006.

Docket Number: OST-2005-22352.

Date Filed: September 1, 2005.

Parties: Members of the International Air Transport Association.

Subject: Composite Resolutions 017a, 017c, 017e, 017f (Memo 1268), Minutes: Composite Meeting of Passenger Tariff Coordinating Conferences (Memo 1271), Montreal, 18-21 July 2005, Intended effective date: 01 April 2005.

Docket Number: OST-2005-22393.

Date Filed: September 2, 2005.

Parties: Members of the International Air Transport Association.

Subject: PTC3/PTC31/PTC123, Special Passenger Amending Resolution 010u From Korea (Rep. of) to USA, U.S. Territories. Intended effective date 1 September 2005.

Docket Number: OST-2005-22394.

Date Filed: September 2, 2005.

Parties: Members of the International Air Transport Association.

Subject: PTC2/PTC3/PTC12/PTC23/PTC31/PTC123, Special Passenger Amending Resolution 010t. Intended effective date: 1 September 2005.

Renee V. Wright,
Program Manager, Docket Operations, Federal Register Liaison.

[FR Doc. 05-19341 Filed 9-27-05; 8:45 am]

BILLING CODE 4910-62-P